DEPARTMENT OF HEALTH AND HUMAN SERVICES

Centers for Medicare & Medicaid Services

[Document Identifier: CMS-10434 #66]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by August 7, 2024.

ADDRESSES: When commenting, please reference the applicable form number (CMS-10434 #66) and the OMB control number (0938-1188). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10434 #66/OMB control number: 0938-1188, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRAListing.

FOR FURTHER INFORMATION CONTACT: William N. Parham at (410) 786-4669.

SUPPLEMENTARY INFORMATION: Because of system limitations, we are submitting this generic collection of information request on an interim basis under CMS-10434 (OMB 0938-1188). At the appropriate time we will move this request under its proper place (CMS-10398, OMB 0938-1148) and subsequently remove it from CMS-10434 to prevent duplication. The public can monitor the status of such activities at reginfo.gov.

Following is a summary of the use and burden associated with the subject information collection(s). More detailed information can be found in the collection's supporting statement and associated materials (see ADDRESSES).

Generic Information Collection

1. Title of Information Collection: Medicaid and Children's Health Insurance Program Eligibility Processing Data Report; Type of Information Collection Request: Revision of a previously approved collection of information request; Use: The COVID-19 outbreak and implementation of Federal policies to address the public health emergency (PHE) disrupted routine Medicaid, Children's Health Insurance Program (CHIP), and Basic Health Program (BHP) eligibility and enrollment operations. Medicaid and CHIP enrollment grew to historic levels due in large part to the Medicaid continuous enrollment condition that States implemented as a condition of receiving a temporary Federal medical assistance percentage (FMAP) increase under section 6008 of the Families First Coronavirus Response Act (Pub. L. 116-127).

States have an obligation to conduct redeterminations of eligibility for all individuals enrolled in Medicaid and CHIP in compliance with all existing Federal requirements at 42 CFR 435.916 and 457.343. In March 2023, CMS identified that 35 States were non-compliant with at least one Medicaid/CHIP renewal requirement. To be eligible for temporary increased funding under the Consolidated Appropriations Act (CAA, 2023), these States were required to implement mitigation strategies or take other steps before they were able to begin unwinding. During unwinding, several States were also required to adopt mitigations when CMS identified other issues (e.g., 29 States with the household auto-renewal issue). As of June 2024, most States have at least one outstanding area of non-compliance with Federal renewal requirements.

It is critical that States ensure their compliance with all Federal renewal requirements to help individuals eligible for Medicaid or CHIP successfully renew their coverage. To confirm compliance with these regulations, CMS is providing a template for States to indicate their current compliance status with renewal regulations, describe policies and processes, and identify planned mitigations for any identified deficiencies. This template will be completed once by States, with updates provided as States with compliance deficiencies inform CMS of progress and come into compliance with requirements.

Form Number: CMS-10434 #66 (OMB control number: 0938-1188); Frequency: Monthly and once; Affected Public: State, Local, or Tribal Governments; Number of Respondents: 56; Total Annual Responses: 1,400; Total Annual Hours: 21,056. (For policy questions regarding this collection contact: Bonnie Norton at (301) 492-4176.)

William N. Parham, III,
Director, Division of Information Collections and Regulatory Impacts, Office of Strategic Operations and Regulatory Affairs.

[FR Doc. 2024-16205 Filed 7-23-24; 8:45 am]

BILLING CODE 4120-01-P